DEPARTMENT OF STATE

[Public Notice 8170]

Culturally Significant Objects Imported for Exhibition Determinations: “Picasso Black and White”

AGENCY: Department of State.

ACTION: Notice, correction.

SUMMARY: On September 12, 2012, notice was published on page 56251 of the Federal Register (volume 77, number 177) of determinations made by the Department of State pertaining to the exhibition “Picasso Black and White.” The referenced notice is corrected here to include additional objects as part of the exhibition. Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000 (and, as appropriate, Delegation of Authority No. 257 of April 15, 2003), I hereby determine that the additional objects to be included in the exhibition “Picasso Black and White,” imported from abroad for temporary exhibition within the United States, are of cultural significance. The additional objects are imported pursuant to loan agreements with the foreign owners or custodians. I also determine that the exhibition or display of the additional exhibit objects at the Museum of Fine Arts, Houston, Houston, Texas, from on or about February 24, 2013, until on or about May 27, 2013, and at possible additional exhibitions or venues yet to be determined, is in the national interest. I have ordered that Public Notice of these Determinations be published in the Federal Register.

FOR FURTHER INFORMATION CONTACT: For further information, including a list of the additional exhibit objects, contact Paul W. Manning, Attorney-Adviser, Office of the Legal Adviser, U.S. Department of State (telephone: 202-632-6469). The mailing address is U.S. Department of State, SA-5, L/PD, Fifth Floor (Suite 5H03), Washington, DC 20522-0505.

Dated: January 17, 2013.
J. Adam Ereli,
Principal Deputy Assistant Secretary, Bureau of Educational and Cultural Affairs, Department of State.

[FR Doc. 2013-01990 Filed 1-29-13; 8:45 am]

BILLING CODE 4710-05-P